DEPARTMENT OF COMMERCE

Foreign-Trade Zones Board

[B-53-2014]

Foreign-Trade Zone 84—Houston, Texas; Application for Reorganization Under Alternative Site Framework

An application has been submitted to the Foreign-Trade Zones (FTZ) Board by the Port of Houston Authority, grantee of FTZ 84, requesting authority to reorganize the zone under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on August 1, 2014.

FTZ 84 was approved on July 15, 1983 (Board Order 214, 48 FR 34792, 8/1/83). The zone was expanded on December 24, 1991 (Board Order 551, 57 FR 42, 1/2/92), on December 23, 1993 (Board Order 670, 59 FR 61, 1/3/94), on August 24, 2000 (Board Order 1115, 65 FR 54197, 9/7/00), on March 21, 2003 (Board Order 1271, 68 FR 15431, 3/31/03), on May 14, 2003 (Board Order 1277, 68 FR 27987, 5/22/03), on April 24, 2009 (Board Order 1611, 74 FR 27777-27778, 6/11/09), on August 23, 2013 (Board Order 1912, 78 FR 53426, 8/29/13), and on May 16, 2014 (Board Order 1937, 79 FR 30077-30078, 5/27/14).

The current zone includes the following sites: Site 1 (420.70 acres)—Houston Ship Channel Turning Basin, Clinton Drive at Highway 610 East Loop, Houston; Site 2 (97 acres, sunset 8/31/2018)—Bulk Materials Handling Plant (Houston Ship Channel), Green Bayou and Penn City Road, Houston; Site 3 (58.39 acres, sunset 8/31/2018)—Barbours Cut Turning Basin, Highway 146 and Highway 225, Houston; Site 4 (3.47 acres)—Cargoways Logistics, 1201 Hahlo Street, Houston; Site 5 (7.53 acres, sunset 8/31/2018)—Proler Southwest, 6747 Avenue W, Houston; Site 6 (73 acres)—Odfjell Terminals (Houston), Inc., 12211 Port Road, Houston; Site 7 (126 acres)—Jacintoport Terminal (Houston Ship Channel), 16398 Jacintoport Blvd., Houston; Site 8 (162.5 acres)—Central Green Business Park, 16638 Air Center Blvd., Houston; Site 9 (72.52 acres)—Manchester Terminal Corporation, 10000 Manchester Street, Houston; Site 10 (14.2 acres)—Greens Port Industrial Park, 13609 Industrial Road, Houston; Site 11 (269 acres)—Oiltanking of Houston, Inc., 15602 Jacintoport Blvd., Houston; Site 12 (146 acres, sunset 8/31/2018)—Kinder Morgan Liquids Terminal LLC, Clinton Drive at Panther Creek and North Witter Street at Bayou Street, Houston; Site 13 (18 acres)—Exel Logistics, Inc., 8833 City Park Loop Street, Houston; Site 14 (22 acres, sunset 8/31/2018)—George Bush Intercontinental Airport jet fuel storage and distribution system, Fuel Storage Road, Houston; Site 15 (196 acres)—Magellan Petroleum Terminal, 12901 American Petroleum Road, Galena Park; Site 16 (72 acres)—Katoen Natie Gulf Coast Warehousing Complex, located at Miller Road Cutoff and U.S. Highway 225, Pasadena; Site 20 (299 acres)—Port Crossing Industrial Park, McCabe Road and State Highway 146, La Porte; Site 23 (16.94 acres, sunset 8/31/2018)—Katoen Natie Gulf Coast, Inc., 102 Old Underwood Road and 1100 Underwood Drive, Deer Park; Site 24 (11.32 acres)—Kuehne + Nagel, Inc., 15450 Diplomatic Plaza Drive, Houston; Temporary Site 25 (11.87 acres, expires 12/31/2014)—Emerson Process Management Valve Automation, Inc., 19200 Northwest Freeway, Houston; Site 26 (1,091.22 acres, sunset 8/31/2018)—Texas Triangle Park, located at State Highway 6 and Louis E. Mikulin Road, Brazos County; Temporary Site 27 (45.3 acres, expires 5/31/2015)—Mitsubishi Caterpillar Forklift America, Inc., 2121 West Sam Houston Parkway North, Houston; Site 28 (199.6 acres, sunset 5/31/2019)—within the 3,635-acre Generation Park, located at the intersection of Beltway 8 and North Lake Houston Parkway, Houston; Site 29 (593.935 acres, sunset 5/31/2019)—within the 1,800-acre Texas Deepwater Industrial Port, located at the northeast and southwest corner of Jacintoport Boulevard and the Beltway 8 Bridge, Houston; Temporary Site 30 (1.045 acres, expires 1/31/2016)—Millett Duty Free Inc., 5610 Armour Drive, Houston; and, Temporary Site 31 (26 acres, expires 11/30/2014)—Westway Terminal Company LLC, 9325 East Avenue “S”, Houston.

The grantee's proposed service area under the ASF would be Harris County, Texas, as described in the application. If approved, the grantee would be able to serve sites throughout the service area based on companies' needs for FTZ designation. The proposed service area is within and adjacent to the Houston Customs and Border Protection port of entry. The grantee proposes to retain its existing Site 26 which is located in Brazos County.

The applicant is requesting authority to reorganize its existing zone to include existing Sites 1, 2, 3, 8, 10, 20, 26, 28 and 29 as “magnet” sites and Sites 4, 5, 6, 7, 9, 11, 12, 13, 14, 15, 16, 23 and 24 as “usage-driven” sites. Temporary Sites 25, 26, 30 and 31 will maintain their current designation. The ASF allows for the possible exemption of one magnet site from the “sunset” time limits that generally apply to sites under the ASF, and the applicant proposes that Site 3 be so exempted. No new subzones/usage-driven sites are being requested at this time. The application would have no impact on FTZ 84's previously authorized subzones.

In accordance with the FTZ Board's regulations, Camille Evans of the FTZ Staff is designated examiner to evaluate and analyze the facts and information presented in the application and case record and to report findings and recommendations to the FTZ Board.

Public comment is invited from interested parties. Submissions shall be addressed to the FTZ Board's Executive Secretary at the address below. The closing period for their receipt is October 6, 2014. Rebuttal comments in response to material submitted during the foregoing period may be submitted during the subsequent 15-day period to October 21, 2014.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Camille Evans at Camille.Evans@trade.gov or (202) 482-2350.

Dated: August 1, 2014.
Andrew McGilvray,
Executive Secretary.

[FR Doc. 2014-18710 Filed 8-6-14; 8:45 am]

BILLING CODE 3510-DS-P